DEPARTMENT OF COMMERCE

National Oceanic and Atmospheric Administration

[I.D. 112003D]

Endangered and Threatened Species; Take of Anadromous Fish

AGENCY: National Marine Fisheries Service (NMFS), National Oceanic and Atmospheric Administration (NOAA), Commerce.

ACTION: Receipt of applications for research permits (1185, 1280, 1452) and request for comment.

SUMMARY: Notice is hereby given that NMFS has received applications for a permit for scientific research from Natural Resource Scientists, Inc (NRS) in Red Bluff, CA (1185), Turlock Irrigation District (TID) in Turlock, CA (1280), and California Rivers Restoration Fund (CRRF) in El Dorado, CA (1452). The permits would affect federally threatened Central Valley steelhead. This document serves to notify the public of the availability of the permit applications for review and comment.

DATES: Written comments on the permit applications must be received at the appropriate address or fax number (see ADDRESSES) no later than 5 p.m. Pacific Standard Time on December 29, 2003.

ADDRESSES: Written comments on the permit applications should be sent to the appropriate office as indicated below. Comments may also be sent via fax to the number indicated for the request. Comments will not be accepted if submitted via e-mail or the Internet. The applications and related documents are available for review by appointment, for permits 1185, 1280, and 1452: Protected Resources Division, NMFS, 650 Capitol Mall, Suite 8-300, Sacramento, CA 95814 (ph:916-930-3614, fax: 916-930-3629). Documents may also be reviewed by appointment in the Office of Protected Resources, F/PR3, NMFS, 1315 East-West Highway, Silver Spring, MD 20910 3226 (301-713-1401).

FOR FURTHER INFORMATION CONTACT: Rosalie del Rosario at phone number 916-930-3614, or e-mail: Rosalie.delRosario@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222 226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Central Valley steelhead (Oncorhynchus mykiss).

Applications Received

NRS requests a 5-year permit (1185) for take of adult and juvenile Central Valley steelhead to monitor outmigrant salmonids in the Merced River. NRS requests authorization for an estimated annual take of 5 adult and 10 juvenile Central Valley steelhead (with no incidental mortality) resulting from capturing, measuring, and releasing fish.

TID requests a 5-year permit (1280) for take of adult and juvenile Central Valley steelhead to study the relationship between fall-run Chinook salmon outmigration patterns and flow fluctuation patterns in the Tuolumne River. TID requests authorization for an estimated annual take of 36 juvenile Central Valley steelhead (number includes 3 percent incidental mortality) and 5 adult Central Valley steelhead (no incidental mortality) resulting from seining, trapping, electrofishing, and angling activities. CRRF requests a 3-year permit (1452) to measure and collect scale samples from adult O. mykiss using hook and line and adult carcasses in the lower Tuolumne River. CRRF requests authorization for an estimated annual take of 340 adult Central Valley steelhead, with less than 1 percent incidental mortality, resulting from capture by hook and line fishing.

Dated: November 21, 2003.
Lamont D. Jackson,
Acting Chief, Endangered Species Division, Office of Protected Resources, National Marine Fisheries Service.

[FR Doc. 03-29731 Filed 11-26-03; 8:45 am]

BILLING CODE 3510-22-S